FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than April 21, 2023.

A. Federal Reserve Bank of St. Louis (Holly A. Rieser, Senior Manager) P.O. Box 442, St. Louis, Missouri 63166-2034. Comments can also be sent electronically to Comments.applications@stls.frb.org:

1. Ralph M. Pratt, III, individually and as trustee of the Ralph M. Pratt, III Trust and the Minor Daughter Trust, and Jacqueline K. Pratt, all of Prospect, Kentucky; Ralph Martin Pratt, IV, Avon, Indiana; Jeffrey Paul Pratt, individually and as trustee of the Minor Son Trust, all of Jacksonville, Florida; Colburn Allen Pratt, individually and as trustee of the Minor Son Trust A and the Minor Son Trust B, all of Montrose, Colorado; Cynthia Marie P. Graft, indivdually and as trustee of the Cynthia Marie Graft Trust, the Matthew Madison Graft Trust, and the Harold Raymond Graft Trust, and Raymond M. Graft, all of Louisville, Kentucky; Benjamin A. Graft, Henryville, Indiana; Robert William Pratt, individually and as trustee of the Robert William Pratt Trust and the Erin Adele Ray Trust, all of Madison, Indiana; to become members of the Pratt Family Control Group, a group acting in concert, to retain voting shares of Farmers Financial Corporation, and thereby indirectly retain voting shares of The Farmers Bank of Milton, both of Milton, Kentucky.

Board of Governors of the Federal Reserve System.
Ann E. Misback,
Secretary of the Board.

[FR Doc. 2023-07263 Filed 4-6-23; 8:45 am]

BILLING CODE P